DEPARTMENT OF THE TREASURY

Internal Revenue Service

26 CFR Part 57

[REG-118315-12]

RIN 1545-BL20

Health Insurance Providers Fee; Correction

AGENCY: Internal Revenue Service (IRS), Treasury.

ACTION: Correction to notice of proposed rulemaking and notice of public hearing.

SUMMARY: This document contains a correction to a notice of proposed rulemaking and notice of public hearing (REG-118315-12) that was published in the Federal Register on Monday, March 4, 2013 (78 FR 14034). The proposed regulations provide guidance on the annual fee imposed on covered entities engaged in the business of providing health insurance for United States health risks.

FOR FURTHER INFORMATION CONTACT: Charles J. Langley, Jr. at (202) 622-3130 (not a toll free number).

SUPPLEMENTARY INFORMATION:

Background

The notice of proposed rulemaking and notice of public hearing (REG-118315-12) that is the subject of this correction is under Section 9010 of the Patient Protection and Affordable Care Act.

Need for Correction

As published, the notice of proposed rulemaking and notice of public hearing (REG-118315-12) contains an error that may prove to be misleading and is in need of clarification.

Correction of Publication

Accordingly, the notice of proposed rulemaking and notice of public hearing (REG-118315-12), that was the subject of FR Doc. 2013-04836, is corrected as follows:

§ 57.1 [Corrected]

On page 14042, column 1, line 17 of paragraph (b), the language “section 9010 of the ACA, as amended.” is corrected to read “section 9010 of the ACA.”.

LaNita VanDyke,
Chief, Publications and Regulations Branch, Legal Processing Division, Associate Chief Counsel (Procedure and Administration).

[FR Doc. 2013-06701 Filed 3-21-13; 8:45 am]

BILLING CODE 4830-01-P